DEPARTMENT OF HEALTH AND HUMAN SERVICES

Administration for Children and Families

Submission for OMB Review; Comment Request

Proposed Projects

Title: Federal Case Registry (FCR)

OMB No.: 0970-0421.

Description: Established within the Federal Parent Locator Service (FPLS) on October 1, 1998, the Federal Case Registry (FCR) is a database that contains basic case and participant data from each of the State Case Registries (SCRs). The SCRs are central registries of child support cases and orders in each state.

The FCR is a national database that includes all child support cases handled by state child support agencies (referred to as IV-D cases), and all support orders established or modified on or after October 1, 1998 (referred to as non-IV-D orders). It assists states in locating parties that live in different states to establish, modify, or enforce child support obligations; establish paternity; enforce state law regarding parental kidnapping; and establish or enforce child custody or visitation determinations.

When a state sends the FCR information about persons in a new case or child support order, this new information is automatically compared to existing person information in the FCR. If matches are found, the FPLS notifies all appropriate state child support enforcement agencies of the record match. In this way, a state will know if another state has a case or support order with participants in common with it, and can take appropriate action.

The information collection activities pertaining to the FCR are authorized by: (1) 42 U.S.C. 653(h), requiring the establishment of the Federal Case Registry (FCR) within the Federal Parent Locator Service (FPLS). (2) 42 U.S.C. 654A(e), requiring State child support agencies to include a State Case Registry (SCR) in the state's automated system. (3) 42 U.S.C. 654A(f)(1), requiring states to conduct information comparison activities between the SCR and the FCR.

Respondents: State Child Support Agencies.

Annual Burden Estimates
Information collection title | Number of respondents | Number of responses per respondent | Average burden hours per response | Total burden hours
Federal Case Registry | 54 | ¹ 151 | 2 minutes ² | 272
Total |  |  |  | 272
¹ Number of responses per respondent is based on the assumption that half of the states submit weekly (52 responses) and half submit daily (250 responses).
² Estimated transmission time is 2 minutes. For the hourly calculation, use 2/60.

Estimated Total Annual Burden Hours: 272.

Additional Information: Copies of the proposed collection may be obtained by writing to the Administration for Children and Families, Office of Planning, Research and Evaluation, 330 C Street SW., Washington, DC 20201, Attention Reports Clearance Officer. All requests should be identified by the information collection. Email address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Bob Sargis,
Reports Clearance Officer.

[FR Doc. 2017-15822 Filed 7-26-17; 8:45 am]

BILLING CODE 4184-41-P